DEPARTMENT OF LABOR

Agency Information Collection Activities; Submission for OMB Review; Comment Request, Reentry Employment Opportunities Evaluation, New Collection

AGENCY: Office of the Assistant Secretary for Policy, Chief Evaluation Office, Department of Labor.

ACTION: Notice of information collection; request for comment.

SUMMARY: The Department of Labor (DOL), as part of its continuing effort to reduce paperwork and respondent burden, conducts a preclearance consultation program to provide the general public and federal agencies with an opportunity to comment on proposed and/or continuing collections of information in accordance with the Paperwork Reduction Act of 1995 (PRA95). This program helps to ensure that requested data can be provided in the desired format, reporting burden (time and financial resources) is minimized, collection instruments are clearly understood, and the impact of collection requirements on respondents is properly assessed. Currently, the Department of Labor is soliciting comments concerning the collection of data about the Reentry Employment Opportunities Program. A copy of the proposed Information Collection Request (ICR) can be obtained by contacting the office listed in the addressee section of this notice.

DATES: Written comments must be submitted to the office listed in the addressee's section below on or before May 6, 2019.

ADDRESSES: You may submit comments by either one of the following methods: Email: ChiefEvaluationOffice@dol.gov; Mail or Courier: Jessica Lohmann, Chief Evaluation Office, OASP, U.S. Department of Labor, Room S-2312, 200 Constitution Avenue NW, Washington, DC 20210. Instructions: Please submit one copy of your comments by only one method. All submissions received must include the agency name and OMB Control Number identified above for this information collection. Comments, including any personal information provided, become a matter of public record. They will also be summarized and/or included in the request for OMB approval of the information collection request.

FOR FURTHER INFORMATION CONTACT: Jessica Lohmann by email at ChiefEvaluationOffice@dol.gov or by phone at (202) 693-5087.

SUPPLEMENTARY INFORMATION:

I. Background: The information collection activities described in this notice will provide data for the Reentry Employment Opportunities (REO) program evaluation. As part of the REO program, DOL awarded $78 million in Reentry Project (RP) grants in 2018, $73 million in RP grants during 2017, $31 million in Reentry Demonstration Project grants during 2016, and $21 million in Training to Work grants during 2015 and 2016. Although each grant program is distinctive, the overarching aim of the REO program is to improve employment outcomes and workforce readiness for people involved in the justice system by way of employment services, case management, and other supportive services. The REO program evaluation will involve grantees that received grants during 2016, 2017, and 2018. The evaluation will involve an implementation study and an impact study. The implementation study will address four main research questions: (1) How were programs implemented and what factors influenced implementation?; (2) What are the variations in the model, structure, partnerships, and services of the REO grants?; (3) How did implementation vary by organization type (such as an intermediary organization that operates in more than one state or a community-based organization) and target population?; and (4) What key program elements appear to be promising? Research questions for the impact study include: (1) What impact do grantees or strategies implemented by grantees have on participants' outcomes, such as employment and recidivism?; (2) Does program effectiveness vary by grantee characteristics, such as population served and services offered?; and (3) To what extent do impacts vary across selected subpopulations, such as age group and type of offense?

This Federal Register Notice provides the opportunity to comment on the following proposed REO evaluation data collection instruments:

1. Semi-structured inverview protocols. As part of the implementation study, which will be conducted in approximately 28 sites, the evaluation team will conduct semi-structured interviews with program administrators, frontline staff, and partners to understand how the program implementation has been developed, managed, and delivered.

2. Participant focus group protocols. As part of the implementation study, the evaluation team will conduct focus groups to gather information from participants. Participant focus groups will ask about participants' reasons for enrolling, impressions of the program and the extent to which it has helped them prepare for employment.

3. Employer focus group protocols. As part of the implementation study, the evaluation team will conduct focus groups to gather information from employers. The focus groups with employers will enable an exploration of how the grantees are meeting the needs of employers.

4. Semi-structured telephone interview protocols. As part of the implementation study, the study team will conduct telephone interviews with approximately 58 sites that were not visited in person. These semi-structured interviews with program administrators will focus on understanding program implementation, challenges encountered, and their potential solutions.

5. Virtual focus group protocols. As part of the implementation study, the study team will conduct approximately 15 virtual focus groups, including approximately 135 REO program administrators in total. Each focus group will be topically focused to gather more in-depth information on a specific aspect of implementation, such as participant retention strategies, data management, or outcomes tracking.

6. Follow-up survey. Approximately 5 grantees will be selected for the impact study. Among the selected grantees, the survey will be administered to approximately 1,890 impact study participants and will allow us to capture respondents' experiences in the program or in other services since enrollment in the study while measuring detailed information about study members' employment experiences. Specifically, the survey will collect data about participants' employment, earnings, credential attainment, skills attainment, recidivism and other topics of interest.

II. Desired Focus of Comments: Currently, the Department of Labor is soliciting comments concerning the above data collection for the REO Evaluation. DOL is particularly interested in comments that do the following:

○ evaluate whether the proposed collection of information is necessary for the proper performance functions of the agency, including whether the information will have practical utility;

○ evaluate the accuracy of the agency's burden estimate of the proposed information collection, including the validity of the methodology and assumptions;

○ enhance the quality, utility, and clarity of the information to be collected; and

○ minimize the burden of the collection of information on those who are to respond, including through the use of appropriate automated, electronic, mechanical, or other technological collection techniques or other forms of information technology—for example, permitting electronic submissions of responses.

III. Current Actions: At this time, the Department of Labor is requesting clearance for the semi-structured interviews with program administrators, frontline staff, and partner staff, and the focus groups with employers, program participants, and program administrators as part of the implementation study as well as the follow-up survey with a subset of sample members in the impact study.

Type of Review: New information collection request.

OMB Control Number: 1290-0NEW.

Affected Public: REO program staff, evaluation participants, local employers, and partner agency staff.

Comments submitted in response to this request will be summarized and/or included in the request for Office of Management and Budget approval of the information collection request; they will also become a matter of public record.

Estimated Annual Burden Hours
Type of instrument | Number of respondents ᵃ | Number of responses per respondent | Total number of responses | Average burden time per response (hours) | Annual estimated burden hours ᵃ
Semi-structured interview: Grant administrators ᵇ | 19 | 1 | 19 | 3 | 57
Semi-structured interview: Frontline staff ᵇ | 196 | 1 | 196 | 1 | 196
Semi-structured interview: Partner-staff administrators ᵇ | 28 | 1 | 28 | 1 | 28
Semi-structured interview: Intermediary grant administrators ᵇ | 6 | 1 | 6 | 1.5 | 9
Participant focus groups ᶜ | 75 | 1 | 75 | 1 | 75
Employer focus groups ᵈ | 37 | 1 | 37 | 1 | 37
Semi-structured telephone calls ᵉ | 58 | 1 | 58 | 2 | 116
Virtual focus groups ᶠ | 45 | 1 | 45 | 1 | 45
Follow-up survey ᵍ | 630 | 1 | 630 | .33 | 208
Total | 1,094 |  | 1,094 |  | 771
ᵃ All annual totals reflect a three year clearance and study data collection period. Estimates are rounded to the nearest whole number.
ᵇ Assumes each visit will, on average, involve individual or group interviews with approximately 2 grant administrators, approximately 3 partner-staff administrators, and approximately 21 frontline staff. The team anticipates completing approximately 28 visits in total. The average burden time per response for the grant administrator interviews will be 3 hours. The average burden time per response for the partner-staff administrator interviews will be 1 hour. The average burden time per response for the frontline staff interviews will be 1 hour. For all types of staff, some meetings will be shorter and some will be longer than the averages. Additionally, the team anticipates conducting interviews with approximately 3 intermediary grant administrators in approximately 6 of the 28 visits. The intermediary grant administrator interviews will be approximately 1.5 hours, on average.
ᶜ Assumes each participant focus group will, on average, involve 8 individuals and will be conducted in approximately 28 sites. The average burden time per response will be 1 hour.
ᵈ Assumes each employer focus group will, on average, involve 4 individuals and will be conducted in approximately 28 sites. The average burden time per response will be 1 hour.
ᵉ Assumes each phone interview will be conducted with approximately 3 program administrators from each of approximately 58 sites. The average length of the phone interview will be two hours.
ᶠ Assumes approximately 15 virtual focus groups with approximately 9 program administrators participating per group. The average burden time per response will be 1 hour.
ᵍ Assumes a follow-up survey will be conducted with approximately 1,890 study participants. The average burden time per response will be 20 minutes.

Molly Irwin,
Chief Evaluation Officer, U.S. Department of Labor.

[FR Doc. 2019-04054 Filed 3-5-19; 8:45 am]

BILLING CODE 4510-HX-P